OFFICE OF THE UNITED STATES TRADE REPRESENTATIVE

Petition Under Section 301 on Israel's Protection of Intellectual Property Rights; Decision Not To Initiate Investigation

AGENCY: Office of the United States Trade Representative.

ACTION: Decision not to initiate investigation.

SUMMARY: The United States Trade Representative (USTR) has determined not to initiate an investigation under section 301 of the Trade Act of 1974 with respect to a petition alleging that the Government of Israel has breached obligations under the WTO Agreement to protect intellectual property rights (IPR).

DATES: Effective Date: June 25, 2009.

FOR FURTHER INFORMATION CONTACT: Jennifer Choe Groves, Senior Director for Intellectual Property and Innovation and Chair of the Special 301 Committee, (202) 395-4510; or William Busis, Associate General Counsel and Chair of the Section 301 Committee, (202) 395-3150.

SUPPLEMENTARY INFORMATION: On May 13, 2009, the Institute for Research: Middle Eastern Policy (IRMEP) filed a petition pursuant to section 302 of the Trade Act of 1974, as amended (the Trade Act)(19 U.S.C. 2412), alleging that acts, policies and practices of the Government of Israel are inconsistent with the obligations of Israel under Article 39 of the Agreement on Trade-Related Aspects of Intellectual Property Rights (TRIPS Agreement), among other allegations. The petition presents five separate “complaints” involving: (1) Access to a 1985 classified report relating to the negotiation of the U.S.-Israel FTA; (2) military-industrial espionage; (3) intellectual property rights of U.S. pharmaceutical firms; (4) the use of the proceeds from diamond exports; and (5) the conduct of pro-Israel lobbyists. The petition alleges that the bilateral U.S.-Israel trade deficit results from the matters complained of in the petition, and that the bilateral trade deficit results in the loss of U.S. jobs. The petition requests the Trade Representative to “immediately suspend the U.S.-Israel FTA until such time as IRMEP's complaints are addressed and Israel has provided damages for past violations of IP rights.”

The Trade Representative has decided not to initiate an investigation regarding the petition on three separate grounds. First, IRMEP—which describes itself as an organization involved in Middle Eastern policy formulation—fails to allege the “significant interest” necessary to have standing to file a petition addressed to an alleged denial of U.S. IP rights. Second, the initiation of a Section 301 investigation in response to the petition would not be an effective means to address the matters raised in the petition. Most of the matters raised in the petition are unconnected to the alleged breach of Article 39 of the TRIPS Agreement. And, to the extent the petition does describe any TRIPS Agreement issues, those issues would be addressed more effectively through the established Special 301 process and the on-going Out-of-Cycle Review of Israel's IPR protection (see pp.19-20 of the 2009 Special 301 Report at http://www.ustr.gov for a description of the Out-of-Cycle Review of Israel). Third, the petition seeks a form of relief—the immediate suspension of the US-Israel FTA without any form of investigation or dispute settlement—not provided for under the Section 301 statute.

Daniel Brinza,
Assistant United States Trade Representative for Monitoring and Enforcement.

[FR Doc. E9-15608 Filed 7-1-09; 8:45 am]

BILLING CODE 3190-W9-P